DEPARTMENT OF EDUCATION

Withdrawal of Notice Inviting Applications and Cancellation of the Competition for the Equity Assistance Centers Program

AGENCY: Office of Elementary and Secondary Education, Department of Education.

ACTION: Notice; withdrawal.

SUMMARY: The U.S. Department of Education (Department) withdraws the notice inviting applications (NIA) and cancels the competition for fiscal year (FY) 2021 for the Equity Assistance Centers (EAC) program under Assistance Listing number (ALN) 84.004D. The Department intends to announce a new competition in FY 2022.

DATES: The notice published at 86 FR 2653 on January 13, 2021, is withdrawn and the competition canceled as of March 4, 2021.

FOR FURTHER INFORMATION CONTACT: Ed Vitelli, U.S. Department of Education, 400 Maryland Avenue SW, Room 3E106, Washington, DC 20202. Telephone: 202-453-6203. Email: Edward.Vitelli@ed.gov.

If you use a telecommunications device for the deaf (TDD) or a text telephone (TTY), call the Federal Relay Service (FRS), toll free, at 1-800-877-8339.

SUPPLEMENTARY INFORMATION:

Background

The EAC program is authorized under Title IV of the Civil Rights Act of 1964, 42 U.S.C. 2000c—2000c-2, 2000c-5, and the implementing regulations in 34 CFR part 270. This program awards grants through cooperative agreements to operate regional EACs that provide technical assistance (including training) at the request of school boards and other responsible governmental agencies in the preparation, adoption, and implementation of plans for the desegregation of public schools—which in this context means plans for equity (including desegregation based on race, national origin, sex, and religion)—and in the development of effective methods of coping with special educational problems occasioned by desegregation. Desegregation assistance, per 34 CFR 270.4, may include, among other activities: (1) Dissemination of information regarding effective methods of coping with special educational problems occasioned by desegregation; (2) assistance and advice in coping with these problems; and (3) training designed to improve the ability of teachers, supervisors, counselors, parents, community members, community organizations, and other elementary or secondary school personnel to deal effectively with special educational problems occasioned by desegregation. A project must provide technical assistance in all four of the desegregation assistance areas: Race, sex, national origin, and religion desegregation.

On January 13, 2021, the Department published in the Federal Register (86 FR 2653) an NIA for the FY 2021 EAC competition, ALN 84.004D.

On January 20, 2021, President Joseph R. Biden signed Executive Order 13985, titled “Advancing Racial Equity and Support for Underserved Communities Through the Federal Government.” This Executive order directed the Federal Government to pursue a comprehensive approach to advancing equity for all, including people of color and others who have been historically underserved, marginalized, and adversely affected by persistent poverty and inequality.

On January 20, 2021, President Biden also signed Executive Order 13988, titled “Preventing and Combating Discrimination on the Basis of Gender Identity or Sexual Orientation.” This Executive order directed the Federal Government to prevent and combat discrimination on the basis of gender identity or sexual orientation, and to fully enforce laws that prohibit discrimination on the basis of gender identity or sexual orientation.

On February 2, 2021, President Biden signed Executive Order 14012, titled “Restoring Faith in Our Legal Immigration Systems and Strengthening Integration and Inclusion Efforts for New Americans.” This Executive order directed the Federal Government to ensure that laws and policies encourage full participation by immigrants, including refugees, in our civic life; that immigration processes and other benefits are delivered effectively and efficiently; and that the Federal Government eliminates sources of fear and other barriers that prevent immigrants from accessing government services available to them.

To allow the Department the opportunity to consider how best to align the EAC program with these Executive orders, to the extent statutorily permitted, the Department is withdrawing the NIA and cancelling this competition. The Department will propose to extend the project period for current grantees to ensure the continuity of the important services provided under the program. The Department intends to announce a new EAC competition for five-year grants in FY 2022.

Intergovernmental Review

This program is subject to Executive Order 12372 and the regulations in 34 CFR part 79.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Mark Washington,
Deputy Assistant Secretary, Office of Elementary and Secondary Education.

[FR Doc. 2021-04491 Filed 3-3-21; 8:45 am]

BILLING CODE 4000-01-P